DEPARTMENT OF DEFENSE

Office of the Secretary

32 CFR Part 311

[Docket ID: DOD-2019-OS-0049]

RIN 0790-AK57

Office of the Secretary of Defense and Joint Staff Privacy Program

AGENCY: Office of the Secretary of Defense/Joint Staff, DoD.

ACTION: Final rule.

SUMMARY: This final rule removes DoD's regulation concerning the Office of the Secretary of Defense and Joint Staff (OSD/JS) Privacy Program. On April 11, 2019, the Department of Defense published a revised DoD-level Privacy Program rule, which contains the necessary information for an agency-wide privacy program regulation under the Privacy Act and now serves as the single Privacy Program rule for the Department. That revised Privacy Program rule also includes all DoD component exemption rules. Therefore, this part is now unnecessary and may be removed from the CFR.

DATES: This rule is effective on August 7, 2019.

FOR FURTHER INFORMATION CONTACT: Mrs. Luz D. Ortiz at 571-372-0478.

SUPPLEMENTARY INFORMATION: DoD now has a single DoD-level Privacy Program rule at 32 CFR part 310 (84 FR 14728) that contains all the codified information required for the Department. The OSD/JS Privacy Program regulation at 32 CFR part 311, last updated on October 30, 2009 (74 FR 56114), is no longer required and may be removed.

It has been determined that publication of this CFR part removal for public comment is impracticable, unnecessary, and contrary to public interest because it is based on the removal of policies and procedures that are either now reflected in another CFR part, 32 CFR 310, or are publically available on the Department's website. To the extent that OSD/JS internal guidance concerning the implementation of the Privacy Act within OSD/JS is necessary, it will continue to be published in Administrative Instruction 81, OSD/Joint Staff (JS) Privacy Program, https://www.esd.whs.mil/Portals/54/Documents/DD/issuances/ai/a81p.pdf?ver=2019-02-25-104539-627.

This rule is one of 20 separate component Privacy rules. With the finalization of the DoD-level Privacy rule at 32 CFR part 310, the Department eliminated the need for component Privacy rules, thereby reducing costs to the public as explained in the preamble of the DoD-level Privacy rule published on April 11, 2019 at 84 FR 14728.

This rule is not significant under Executive Order (E.O.) 12866, “Regulatory Planning and Review.” Therefore, E.O. 13771, “Reducing Regulation and Controlling Regulatory Costs” does not apply.

List of Subjects in 32 CFR Part 311

Privacy.

PART 311—[REMOVED]

Accordingly, by the authority of 5 U.S.C. 301, 32 CFR part 311 is removed.

Dated: August 1, 2019.
Aaron T. Siegel,
Alternate OSD Federal Register Liaison Officer, Department of Defense.

[FR Doc. 2019-16775 Filed 8-6-19; 8:45 am]

BILLING CODE 5001-06-P